NUCLEAR REGULATORY COMMISSION

[Docket No. 50-325]

Carolina Power & Light Company, et al.; Notice of Consideration of Issuance of Amendment to Facility Operating License, Proposed No Significant Hazards Consideration Determination, and Opportunity for a Hearing

The U.S. Nuclear Regulatory Commission (the Commission) is considering issuance of an amendment to Facility Operating License No. DPR-71 issued to Carolina Power & Light Company, et al., (the licensee) for operation of the Brunswick Steam Electric Plant, Unit 1, located in Brunswick County, North Carolina.

The proposed amendment would modify Surveillance Requirement (SR) 3.1.3.3 to allow partial insertion of control rod 26-47 instead of insertion of one complete notch. This revised acceptance criterion will be limited to the current Unit No. 1 operating cycle, after which the current one-notch requirement will be re-established.

Before issuance of the proposed license amendment, the Commission will have made findings required by the Atomic Energy Act of 1954, as amended (the Act) and the Commission's regulations.

The Commission has made a proposed determination that the amendment request involves no significant hazards consideration. Under the Commission's regulations in 10 CFR 50.92, this means that operation of the facility in accordance with the proposed amendment would not (1) Involve a significant increase in the probability or consequences of an accident previously evaluated; or (2) create the possibility of a new or different kind of accident from any accident previously evaluated; or (3) involve a significant reduction in a margin of safety. As required by 10 CFR 50.91(a), the licensee has provided its analysis of the issue of no significant hazards consideration, which is presented below:

1. Partial insertion of control rod 26-47 versus insertion of one notch does not involve a significant increase in the probability or consequences of an accident previously evaluated.

This change does not affect either the design or operation of the Control Rod Drive Mechanism (CRDM). The affected surveillance is not considered to be an initiator of any analyzed event. Revising the acceptance criterion for SR 3.1.3.3 for control rod 26-47 will not affect the ability of the control rods to shutdown the reactor if required. Allowing partial insertion of control rod 26-47 versus one notch insertion will not affect the overall intent of SR 3.1.3.3 and will provide adequate assurance that control rod 26-47 remains capable of insertion. The proposed change is only applicable to control rod 26-47; all other partially withdrawn control rods will be tested by inserting them one notch. Additionally, the insertion capability of all fully withdrawn control rods is demonstrated on a 7 day frequency. Hence, the overall intent of SR 3.1.3.3, which is to detect either random stuck control rods or identify generic concerns affecting control rod operability, is not significantly affected by the proposed change.

Therefore, the proposed amendment does not significantly increase the probability or consequences of a previously analyzed accident.

2. Partial insertion of control rod 26-47 versus insertion of one notch will not create the possibility of a new or different kind of accident from any accident previously evaluated.

Revising the acceptance criterion of SR 3.1.3.3 for control rod 26-47 does not involve physical modification to the plant and does not introduce a new mode of operation. Therefore, there is no possibility of an accident of a new or different type.

3. Partial insertion of control rod 26-47 versus insertion of one notch does not involve a significant reduction in a margin of safety.

Revising the acceptance criterion of SR 3.1.3.3 only provides a minor reduction in the probability of finding that rod 26-47 is stuck. Partially inserting control rod 26-47 once per 31 days will provide adequate assurance that control rod 26-47 remains capable of insertion.

The proposed change is only applicable to control rod 26-47; all other partially withdrawn control rods will be tested by inserting them one full notch.

Additionally, the insertion capability of all fully withdrawn control rods is demonstrated on a 7 day frequency. Hence, the overall intent of SR 3.1.3.3, which is to detect either random stuck control rods or identify generic concerns affecting control rod operability, is not significantly affected by the proposed change. Additionally, industry experience has shown stuck control rods to be an extremely rare event. Should a stuck control rod be discovered, 100% of the remaining control rods will be tested within 24 hours per the requirements of Action A.3 of TS 3.1.3.

On March 28, 2000, it was determined that BSEP [Brunswick Steam Electric Plant], Unit No. 1 had developed a problem which has resulted in the inability to withdraw control rod 26-47. The control rod remains operable and is fully capable of being automatically or manually inserted. Performance of SR 3.1.3.3, with the current acceptance criterion, will unnecessarily impact the control rod blade by increasing the rate of depletion of its neutron absorption capability as more of the blade will be exposed to the operating core. Performance of SR 3.1.3.3 by partial insertion of control rod 26-47 versus insertion of one notch can be accomplished by observing control rod position indication in the control room. A one notch insertion represents two reed switch positions; notches are located at even numbered reed switch positions. For control rod 26-47, SR 3.1.3.3 will be performed by inserting the control rod sufficiently to cause reed switch movement, as determined by intermediate rod position indication (i.e., blackout of starting rod position on the four rod display) in the control room. At that point, the control rod will be allowed to settle to its original position. This provides adequate assurance of the insertion capability of the control rod.

Based on (1) the ability of control rod 26-47 to be inserted either manually or automatically, (2) the continued demonstration of the ability of control rod 26-47 to insert on a 31 day frequency, (3) the high level of assurance of continued operability of all control rods provided by SR 3.1.3.2 and SR 3.1.3.3, and (4) the benefits derived by limiting the unnecessary depletion of the neutron absorption capability of control rod 26 47, the benefits derived from revising the acceptance criterion of SR 3.1.3.3 for control rod 26-47 outweigh any risks associated with the proposed change. Therefore, the proposed amendment will provide assurance that control rod 26-47 remains operable while avoiding the negative consequences of unnecessarily inserting control rod 26-47.

Based on the above, partial insertion of control rod 26-47 versus insertion of one notch does not involve a significant reduction in a margin of safety.

The NRC staff has reviewed the licensee's analysis and, based on this review, it appears that the three standards of 10 CFR 50.92(c) are satisfied. Therefore, the NRC staff proposes to determine that the amendment request involves no significant hazards consideration.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D59, Two White Flint North, 11545 Rockville Pike, Rockville, Maryland, from 7:30 a.m. to 4:15 p.m. Federal workdays. Copies of written comments received may be examined at the NRC Public Document Room, the Gelman Building, 2120 L Street, NW., Washington, DC.

The filing of requests for hearing and petitions for leave to intervene is discussed below.

By May 22, 2000, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714 which is available at the Commission's Public Document Room, the Gelman Building, 2120 L Street, NW., Washington, DC, and accessible electronically through the ADAMS Public Electronic Reading Room link at the NRC Web site (http://www.nrc.gov). If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemakings and Adjudications Staff, or may be delivered to the Commission's Public Document Room, the Gelman Building, 2120 L Street, NW., Washington, DC, by the above date. A copy of the petition should also be sent to the Office of the General Counsel, U.S. Nuclear Regulatory Commission, Washington, DC 20555-0001, and to William D. Johnson, Vice President and Corporate Secretary, Carolina Power & Light Company, Post Office Box 1551, Raleigh, North Carolina 27602.

Nontimely filings of petitions for leave to intervene, amended petitions, supplemental petitions and/or requests for hearing will not be entertained absent a determination by the Commission, the presiding officer or the presiding Atomic Safety and Licensing Board that the petition and/or request should be granted based upon a balancing of the factors specified in 10 CFR 2.714(a)(1)(i)-(v) and 2.714(d).

For further details with respect to this action, see the application for amendment dated April 14, 2000, which is available for public inspection at the Commission's Public Document Room, the Gelman Building, 2120 L Street, NW., Washington, DC, and accessible electronically through the ADAMS Public Electronic Reading Room link at the NRC Web site (http://www.nrc.gov).

Dated at Rockville, Maryland, this 17th day of April, 2000.
For the Nuclear Regulatory Commission.
Allen G. Hansen,
Project Manager, Section 2, Project Directorate II, Division of Licensing Project Management, Office of Nuclear Reactor Regulation.

[FR Doc. 00-9965 Filed 4-20-00; 8:45 am]

BILLING CODE 7590-01-P